DEPARTMENT OF COMMERCE

Bureau of the Census

[Docket Number 020103003-2003-01]

Annual Trade Survey

AGENCY: Bureau of the Census, Commerce.

ACTION: Notice of Determination.

SUMMARY: The Bureau of the Census (Census Bureau) is conducting the Annual Trade Survey. The Census Bureau has determined that it needs to collect data covering annual sales, e-commerce sales, year-end inventories, and purchases.

FOR FURTHER INFORMATION CONTACT: Scott Scheleur, Service Sector Statistics Division, on (301) 457-2713.

SUPPLEMENTARY INFORMATION: The Annual Trade Survey is a continuation of similar wholesale trade surveys conducted each year since 1978. It provides, on a comparable classification basis, annual sales, e-commerce sales (including Electronic Data Interchange-EDI) and purchases for 2001 and year-end inventories for 2000 and 2001. These data are not available publicly on a timely basis from nongovernmental or other governmental sources.

The Census Bureau will require a selected sample of firms operating merchant wholesale establishments in the United States (with sales size determining the probability of selection) to report in the 2001 Annual Trade Survey. We will furnish report forms to the firms covered by this survey and will require their submissions within thirty days after receipt. The sample will provide, with measurable reliability, statistics on the subjects specified above.

The Census Bureau is authorized to take surveys necessary to furnish current data on the subjects covered by the major censuses authorized by Title 13, United States Code, sections 182, 224, and 225. This survey will provide continuing and timely national statistical data on wholesale trade for the period between economic censuses. The data collected in this survey will be within the general scope and nature of those inquiries covered in the economic census. These data will provide a sound statistical basis for the formation of policy by various government agencies. These data also apply to a variety of public and business needs.

Notwithstanding any other provision of law, no person is required to respond to, nor shall a person be subject to a penalty for failure to comply with, a collection of information subject to the requirements of the Paperwork Reduction Act (PRA) unless that collection of information displays a current valid Office of Management and Budget (OMB) control number. In accordance with the PRA, 44 United States Code, chapter 35, the OMB approved the Annual Trade Survey under OMB Control Number 0607-0195. We will furnish report forms to organizations included in the survey. Additional copies are available on written request to the Director, U.S. Census Bureau, Washington, DC 20233-0101.

Based upon the foregoing, I have directed that an annual survey be conducted for the purpose of collecting these data.

Dated: December 18, 2001.
William G. Barron, Jr.,
Acting Director, Bureau of the Census.

[FR Doc. 02-506 Filed 1-8-02; 8:45 am]

BILLING CODE 3510-07-P